DEPARTMENT OF THE INTERIOR

Bureau of Ocean Energy Management

30 CFR Part 585

[Docket No. BOEM-2023-0005]

RIN 1010-AE04

Renewable Energy Modernization Rule

AGENCY: Bureau of Ocean Energy Management, Interior.

ACTION: Notice of proposed rulemaking; extension of public comment period.

SUMMARY: We, the Bureau of Ocean Energy Management (BOEM), are extending the public comment period on our notice of proposed rulemaking (NPRM) titled “Renewable Energy Modernization Rule” by 30 days. Comments previously submitted need not be resubmitted and will be fully considered.

DATES: Comment Period. The comment period for the Renewable Energy Modernization Rule NPRM, which was published on January 30, 2023 (88 FR 5968), is extended by 30 days. Comments submitted online at https://regulations.gov must be received by 11:59 p.m. Eastern Standard Time on May 1, 2023. Hardcopy comments must be received or postmarked on or before May 1, 2023.

ADDRESSES:

Docket. The publicly available documents relevant to this action are available for public inspection electronically at https://regulations.gov in Docket No. BOEM-2023-0005.

Submitting Comments. You may send comments regarding the substance of this proposed rule, identified by Docket No. BOEM-2023-0005 or regulation identifier number (RIN) 1010-AE04, using any of the following methods:

• Federal e-rulemaking portal: http://regulations.gov. Search for and submit comments on Docket No. BOEM-2023-0005.

• U.S. Postal Service or other mail delivery service: Address comments to the Office of Regulations, Bureau of Ocean Energy Management, Department of the Interior, Attention: Kelley Spence, 45600 Woodland Road, Mailstop: DIR-BOEM, Sterling, VA 20166.

Instructions: All comments submitted regarding this proposed rule should reference Docket No. BOEM-2023-0005 or RIN 1010-AE04. All comments received by BOEM will be reviewed and may be posted to https://www.regulations.gov, including any personal information provided with the submission. For further instructions on protecting personally identifiable information, see “Public Availability of Comments” under SUPPLEMENTARY INFORMATION.

FOR FURTHER INFORMATION CONTACT: Kelley Spence, Office of Regulations, BOEM, at telephone number 984-298-7345 or email address Kelley.Spence@boem.gov; or Karen Thundiyil, Chief, Office of Regulations, BOEM, at telephone number 202-742-0970 or email address Karen.Thundiyil@boem.gov. Individuals in the United States who are deaf, deafblind, hard of hearing, or have a speech disability may dial 711 (TTY, TDD, or TeleBraille) to access telecommunications relay services. Individuals outside the United States should use the relay services offered within their country to make international calls to the point-of- contact in the United States.

SUPPLEMENTARY INFORMATION: On January 30, 2023 (88 FR 5968), we published the Renewable Energy Modernization Rule NPRM which contained reforms identified by the Department of the Interior and recommended by industry, including proposals for incremental funding of decommissioning accounts; more flexible geophysical and geotechnical survey submission requirements; streamlined approval of meteorological (met) buoys; revised project verification procedures; reform of BOEM's renewable energy auction process; and greater clarity regarding safety requirements. With this notice, we are extending the public comment period on the NPRM from March 31, 2023, to May 1, 2023.

Public Availability of Comments

You may submit your comments and materials by one of the methods listed in the ADDRESSES section of this notice. Before including your address, phone number, or other personal identifying information in your comment, you should be aware that your entire comment—including your personal identifying information—might be made publicly available at any time. While you can ask us in your comment to withhold your personal identifying information from public review, we cannot guarantee that we will be able to do so. All submissions from organizations or businesses, and from individuals identifying themselves as representatives or officials of organizations or businesses, will be made available for public disclosure in their entirety.

Elizabeth Klein,
Director, Bureau of Ocean Energy Management.

[FR Doc. 2023-06924 Filed 3-30-23; 4:15 pm]

BILLING CODE 4340-98-P